DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The National Sample Survey of Registered Nurses 2004 (OMB No. 0915-0192)—Revision

The National Sample Survey of Registered Nurses (NSSRN) is carried out to assist in fulfilling two Congressional mandates. Section 792 of the Public Health Service Act (42 U.S.C. 295k), calls for the collection and analysis of data on health professions. Section 806 (f) of the Public Health Service Act (42 U.S.C. 296e) requires that discipline specific workforce information and analytical activities are carried out as part of the advanced nursing education, workforce diversity, and basic nursing education and practice programs.

Government agencies, legislative bodies and health professionals used data from previous national sample surveys of registered nurses to inform workforce policies. The information from this survey will continue to serve policy makers, and other consumers. Furthermore data collected in this survey will assist in determining the impact that changes in the health care system are having on employment status of registered nurses (RNs), the setting in which they are employed and the proportion of RNs who are employed full time and part time in nursing. The data will also indicate the number of RNs who are employed in jobs unrelated to nursing.

The proposed survey design for the 2004 NSSRN follows that of the previous seven surveys. A probability sample is selected from a sampling frame compiled from files provided by the State Boards of Nursing in the 50 States and the District of Columbia. These files constitute a multiple sampling frame of all RNs licensed in the 50 States and the District of Columbia. Sampling rates are set for each State based on considerations of statistical precision of the estimates and the costs involved in obtaining reliable national and State level estimates.

Each sampled nurse will be asked to complete a self-administered questionnaire, which includes items on educational background, duties, employment status and setting, geographic mobility, and income.

Estimated burden is as follows:

| Number of respondents | Responses per respondent | Total responses | Hours per response | Total burden hour
Questionnaires | 39,584 | 1 | 39,584 | .33 | 13,063

Written comments and recommendations concerning the proposed information collection should be sent within 30 days of this notice to: Allison Eyte, Human Resources and Housing Branch, Office of Management and Budget, New Executive Office Building, Room 10235, Washington, DC 20503, Fax Number (202) 395-4650.

Dated: June 17, 2003.
Jane M. Harrison,
Director, Division of Policy Review and Coordination.

[FR Doc. 03-15819 Filed 6-23-03; 8:45 am]

BILLING CODE 4165-15-P